DEPARTMENT OF EDUCATION

President's Board of Advisors on Historically Black Colleges and Universities Meeting

AGENCY: President's Board of Advisors on Historically Black Colleges and Universities, U.S. Department of Education.

ACTION: Rescheduled notice of meeting.

SUMMARY: Due to inclement weather the President's Board of Advisors on Historically Black Colleges and Universities meeting was cancelled for Friday, January 21, 2000, and is rescheduled for Wednesday, February 16, 2000. This notice sets forth the schedule and agenda of the meeting of the President's Board of Advisors on Historically Black Colleges and Universities. This notice also describes the functions of the Board. Notice of this meeting is required under Section 10(a)(2) of the Federal Advisory Committee Act.

DATE AND TIME: Wednesday, February 16, 2000 from 9 a.m. to 5 p.m.

ADDRESSES: The meeting will be held at the Washington Hilton Hotel, located at 1919 Connecticut Avenue, NW., Washington, DC 20006.

FOR FURTHER INFORMATION CONTACT: Ms. Treopia Washington, White House Initiative on Historically Black Colleges and Universities, U.S. Department of Education, 1990 K Street, NW., Suite 8108, Washington, DC 20006-5120. Telephone: (202) 502-7900.

SUPPLEMENTARY INFORMATION: The President's Board of Advisors on Historically Black Colleges and Universities was established under Executive Order 12876 of November 1, 1993. The Board was established to advise on federal policies that impact upon Historically Black Colleges and Universities, to advise on strategies to increase participation of Historically Black Colleges and Universities in federally sponsored programs and funding opportunities, and to advise on strategies to increase private sector support for these colleges.

The meeting of the Board is open to the public. The meeting will focus on efforts to expand federal and private sector support for Historically Black Colleges and Universities.

Records are kept of all Board procedures and are available for public inspection at the White House Initiative on Historically Black Colleges and Universities located at 1990 K Street, NW., Suite 8099, Washington, DC, 20006, from the hours of 8:30 a.m. to 5 p.m.

A. Lee Fritschler,
Assistant Secretary for Postsecondary Education.

[FR Doc. 00-2763 Filed 2-7-00; 8:45 am]

BILLING CODE 4000-01-M